DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 12, 2000.

Interested persons are invited to submit written comments regarding the subject matter of the investigations to the Director, Division of Trade Adjustment Assistance, at the address shown below, not later than June 12, 2000.

The petitions filed in this case are available for inspection at the Office of the Director, Division of Trade Adjustment Assistance, Employment and Training Administration, U.S. Department of Labor, 200 Constitution Avenue, N.W., Washington, D.C. 20210.

Signed at Washington, D.C. this 22nd day of May, 2000.
Grant D. Beale,
Program Manager, Division of Trade Adjustment Assistance.

APPENDIX
[Petitions instituted on 05/22/2000]
TA-W | Subject firm (petitioners) | Location | Date of petition | Product(s)
37,684 | Colby Footwear, Inc (Co.) | Gonic, HN | 05/04/2000 | Women's Footwear.
37,685 | Makco Manufacturing Co (Co.) | Edinboro, PA | 05/03/2000 | Metal Stamped Parts.
37,686 | Calgon Corporation (Wkrs) | Pittsburgh, PA | 05/11/2000 | Water Treatment Chemicals.
37,687 | Xantech Corporation (Co.) | Sylmar, CA | 05/10/2000 | Signal Processing and Control Systems.
37,688 | Ripley Industries (Co.) | Lewiston, ME | 05/12/2000 | Women's Shoe Heels.
37,689 | AGRI Sales (Wkrs) | Saginan, MI | 05/10/2000 | Dry Edible Beans.
37,690 | PCC Olofsson (Wkrs) | Lansing, MI | 05/03/2000 | Slack Adjuster for Semi-Trucks.
37,691 | Four Seasons Apparel Co. (Co.) | Murfreesboro, NC | 05/05/2000 | Sportswear.
37,692 | Valley Recreation Product (Co.) | Sycamore, IL | 05/10/2000 | Electronic Dart Games.
37,693 | PCS Nitrogen (Wkrs) | Camanche, IA | 05/10/2000 | Nitric Acid and Ammonium Nitrate.
37,694 | Meritor Automotive, Inc (IAMAW) | Fairfield, IA | 04/28/2000 | Universal Joints for Trucks.
37,695 | Ryan Press (Wkrs) | Ogdensburg, NY | 04/23/2000 | Commercial Printing.
37,696 | Parker Hannifin (Wkrs) | Batesville, MS | 05/04/2000 | Hose Assemblies for Automobiles.
37,697 | Scientific Research Co. (Co.) | Portland, OR | 05/02/2000 | Metal Parts for Trucks.
37,698 | Grayson Enterprises (Wkrs) | Eaton, IN | 04/28/2000 | Sterile Sampling Bags.
37,699 | Invensys Appliance Control (Co.) | Independence, VA | 05/04/2000 | Air Conditioning, Refrigeration Controls.
37,700 | Cove Shoe Co. (UFCW) | Martinsburg, PA | 05/15/2000 | Leather Boots.
37,701 | Oregon Woodworking (Co.) | Bend, OR | 05/05/2000 | Interior Jambs.
37,702 | Spencer's (Wkrs) | Mt. Airy, NC | 04/27/2000 | Baby Clothes.
37,703 | Beloit Corporation (PACE) | Neenah, WI | 05/09/2000 | Service Paper Machines & Parts.
37,704 | Ferwood Magnetics (Wkrs) | Belvidere, NJ | 04/23/2000 | Magnetic Transistor Devices.
37,705 | Competitive Engineering (Wkrs) | Tucson, AZ | 05/06/2000 | Pico Carriers.
37,706 | Fruit of the Loom (Wkrs) | Frankford, KY | 05/12/2000 | Wilson Sports Products.
37,707 | Oliver Rubber Co. (Wkrs) | Export, PA | 05/09/2000 | Cure Tread Rubber.
37,708 | Stanley Tools (Co.) | Shelbyville, IN | 05/09/2000 | Hammers and Hand Saws.
37,709 | Boeing (Wkrs) | St. Louis, MO | 05/11/2000 | Military Aircraft and Missiles.
37,710 | A.T. Cross Co. (Co.) | Lincoln, RI | 04/13/2000 | Writing Instruments.
37,711 | Dana Epic Technical Group (Wkrs) | Kendallville, IN | 05/05/2000 | Fuel Rails for Autos and Trucks.
37,712 | Rite Industries, Inc (Comp) | High Point, NC | 05/17/2000 | Dyes for Textile and Paper Industries.

[FR Doc. 00-13754 Filed 6-1-00; 8:45 am]

BILLING CODE 4510-30-M